NUCLEAR REGULATORY COMMISSION

[Docket No. 50-608; NRC-2022-0135]

SHINE Medical Technologies, LLC; Medical Isotope Production Facility

AGENCY: Nuclear Regulatory Commission.

ACTION: Draft supplement to the final environmental impact statement; public meeting and request for comment.

SUMMARY: The U.S. Nuclear Regulatory Commission (NRC) is issuing for public comment draft Supplement 1 to NUREG-2183, Environmental Impact Statement for the Construction Permit for the SHINE Medical Radioisotope Production Facility, issued October 2015. SHINE Medical Technologies, LLC (SHINE) is requesting a license to operate the Medical Isotope Production Facility (SHINE facility) in Janesville, Wisconsin. The NRC is seeking public comment on this action and has scheduled a public meeting that will take place as an online webinar and teleconference.

DATES: The NRC staff will hold a public meeting as an online webinar and teleconference on July 27, 2022, from 7:00 p.m. to 9:00 p.m. Eastern Time (ET). Submit comments by August 22, 2022. Comments received after this date will be considered if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2022-0135. Address questions about Docket IDs in Regulations.gov to Stacy Schumann; telephone: 301-415-0624; email: Stacy.Schumann@nrc.gov. For technical questions, contact the individual listed in the For Further Information Contact section of this document.

• Email comments to: SHINEEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lance J. Rakovan, Office of Nuclear Material Safety and Safeguards, U.S. Nuclear Regulatory Commission, Washington DC 20555-0001; telephone: 301-415-2589; email: Lance.Rakovan@nrc.gov.

SUPPLEMENTARY INFORMATION:

I. Obtaining Information and Submitting Comments

A. Obtaining Information

Please refer to Docket ID NRC-2022-0135 when contacting the NRC about the availability of information regarding this document. You may obtain publicly available information related to this document by any of the following methods:

• Federal rulemaking website: Go to https://www.regulations.gov and search for Docket ID NRC-2022-0135.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. Draft Supplement 1 to NUREG-2183 is available in ADAMS under Accession No. ML22179A346.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. ET, Monday through Friday, except Federal holidays.

• Public Library: A copy of draft Supplement 1 to NUREG-2183 is available at the Hedberg Public Library, 316 South Main Street, Janesville, Wisconsin 53545.

B. Submitting Comments

The NRC encourages the electronic submission of comments through the Federal rulemaking website (https://www.regulations.gov). Please include Docket ID NRC-2022-0135 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC staff is issuing for public comment draft Supplement 1 to NUREG-2183. When a final environmental impact statement (FEIS) has been prepared in connection with the issuance of a construction permit for a production or utilization facility, the NRC staff is required to prepare a supplement to the FEIS on the construction permit in connection with any issuance of an operating license for that facility in accordance with paragraph 51.95(b) of title 10 of the Code of Federal Regulations.

Draft Supplement 1 to NUREG-2183 updates the prior environmental review by the NRC staff for the SHINE facility construction permit. This supplement only covers matters that differ from or that reflect significant new information concerning matters discussed in NUREG-2183. Draft Supplement 1 to NUREG-2183 includes the NRC staff's preliminary analysis of the environmental impacts of the proposed action of deciding whether to issue a license to SHINE to operate the SHINE facility for a period of 30 years. After weighing the environmental, economic, technical, and other benefits against environmental and other costs, the NRC staff's preliminary recommendation, unless safety issues mandate otherwise, is that the operating license be issued as requested.

III. Request for Comment and Public Meeting

The NRC staff will hold a public meeting as an online webinar and teleconference to present an overview of its preliminary analysis and to receive comments on draft Supplement 1 to NUREG-2183. A court reporter will transcribe all comments received during the public meeting and the transcript will be made publicly available. To be considered, comments must be provided either at the transcribed public meeting or in writing, as discussed in the ADDRESSES section of this document. The date and time for the public meeting is as follows:

Date | Time | Location
07/27/2022 | 7:00 p.m. to 9:00 p.m. ET | Webinar Information: https://teams.microsoft.com/registration/dRTQ6LXDakOgZV3vTGT1Lg,br1bC5dwN0i7oarti0hkXg,H76ZUH0IuEGKXQCsPEQQ7Q,AAKS08D4n0-CjPObqCUTNg,6ol9VW_NI0-buX-ScVZ_sg,brBWRDkbGESX_OUAsVVjvw?mode=read&tenantId=e8d01475-c3b5-436a-a065-5def4c64f52e&webinarRing=gcc. Telephone Access: Bridgeline: 301-576-2978. Participant Access Code: 438638044#.

Persons interested in attending this public meeting should monitor the NRC's Public Meeting Schedule website at https://www.nrc.gov/pmns/mtg for additional information, agendas for the meeting, and access information. Those wishing to speak and voice comments at the public meeting should follow the instructions listed on the NRC's Public Meeting Schedule website. Please contact Mr. Lance Rakovan no later than July 20, 2022, if accommodations or special equipment is needed to attend or to provide comments, so that the NRC staff can determine whether the request can be accommodated. Participants should register in advance of the public meeting by selecting the Webinar Information website previously noted. A confirmation email will be generated providing additional details and a link to the public meeting.

Dated: June 30, 2022.
For the Nuclear Regulatory Commission.
Theodore B. Smith,
Chief, Environmental Review License Renewal Branch, Division of Rulemaking, Environmental, and Financial Support, Office of Nuclear Material Safety and Safeguards.

[FR Doc. 2022-14384 Filed 7-7-22; 8:45 am]

BILLING CODE 7590-01-P